DEPARTMENT OF ENERGY

Federal Energy Regulatory Commission

[Project No. 7192-010]

Eagle Hydro; Pacific Power Partners, LLC; Notice of Transfer of Exemption

1. By letter filed October 4, 2024, Pacific Power Partners, LLC, pursuant to 18 CFR 4.106(i), informed the Commission that it is the new owner of the exemption from licensing for the Canyon Creek Hydroelectric Project No. 7192, originally issued November 15, 1983. The project is located on Canyon Creek in El Dorado County, California. The transfer of an exemption does not require Commission approval.

2. Pacific Power Partners, LLC is located at 3310 Monier Cir., Rancho Cordova, CA 95742.

Dated: February 26, 2025.
Debbie-Anne A. Reese,
Secretary.

[FR Doc. 2025-03500 Filed 3-4-25; 8:45 am]

BILLING CODE 6717-01-P